DEPARTMENT OF HEALTH AND HUMAN SERVICES

Centers for Disease Control and Prevention

[60-Day-13-0743]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly Lane, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessment and Monitoring of Breastfeeding-Related Maternity Care Practices in Intra-partum Care Facilities in the United States and Territories (OMB Control No. 0920-0743, Exp. 12/31/2011)—Reinstatement—National Center for Chronic Disease Prevention and Health Promotion (NCCDPHP), Centers for Disease Control and Prevention (CDC).

Background and Brief Description

Substantial evidence demonstrates the social, economic, and health benefits of breastfeeding for both the mother and infant as well as for society in general. Breastfeeding mothers have lower risks of breast and ovarian cancers and type 2 diabetes, and breastfeeding better protects infants against infections, chronic diseases like diabetes and obesity, and even childhood leukemia and sudden infant death syndrome (SIDS). However, the groups that are at higher risk for diabetes, obesity, and poor health overall, persistently have the lowest breastfeeding rates.

Health professionals recommend at least 12 months of breastfeeding, and Healthy People 2020 establishes specific national breastfeeding goals. In addition to increasing overall rates, a significant public health priority in the United States (U.S.) is to reduce variation in breastfeeding rates across population subgroups. Although CDC surveillance data indicate that breastfeeding initiation rates in the U.S. are climbing, rates for duration and exclusivity continue to lag, and significant disparities in breastfeeding rates persist between African-American and white women.

The health care system is one of the most important and effective settings to improve breastfeeding initiation rates because hospital practices strongly influence infant feeding outcomes. In 2003, CDC convened a panel of experts in surveillance and monitoring of hospital practices related to breastfeeding to identify the most effective way for CDC to address the urgent public health need for nationally representative data on these practices. The Expert Panel's consensus recommendation was to establish an ongoing, national system to monitor and evaluate hospital practices related to breastfeeding among all facilities that routinely provide intrapartum care in the United States. In response to this input, CDC created the first national survey of Maternity Practices in Infant Nutrition and Care (known as the mPINC Survey) in health care facilities (hospitals and free-standing birth centers). The mPINC survey was first launched in 2007. As it was designed to provide baseline information and to be repeated every two years, it was conducted again in 2009 and 2011. The survey inquired about patient education and support for breastfeeding throughout the maternity stay as well as staff training and maternity care practices.

OMB approval for the 2007 survey included a request to CDC to provide, prior to the fielding of the 2009 iteration, a report to the Office of Management and Budget (OMB) on the results of the 2007 collection. In this report, CDC provided survey results by geographic and demographic characteristics and a summary of activities that resulted from the survey. A summary of mPINC findings was also the anchor of all activities related to the CDC August 2011 Vital Signs activity, marking the first time that CDC decided to highlight improving hospital maternity practices as the CDC-wide public health priority for the month.

A major strength of the mPINC survey design is its structure as an ongoing, national census. The 2013 and 2015 mPINC surveys repeat the prior iterations (2007, 2009, and 2011). Ensuring that the methodology, content, and administration of these will match those used before maximizes the utility not only of the data to be collected in the upcoming survey, but also that of data already collected; fidelity to the original design allows for analyses of the wide spectrum of changes and factors at the hospital, regional, state, and national levels that affect any given hospital's practices. The census design does not employ sampling methods. Facilities are identified by using the American Association of Birth Centers (AABC) and the American Hospital Association (AHA) Annual Survey of Hospitals. Facilities that will be invited to participate in the survey include those that participated in previous iterations and those that were invited but did not participate in the previous iterations, as well as those that have become eligible since the most recent mPINC survey. All birth centers and hospitals with ≥1 registered maternity bed will be screened via a brief phone call to assess their eligibility, identify additional locations, and identify the appropriate point of contact. The extremely high response rates to the previous iterations of the mPINC survey (82% in 2007 and 2009, and 83% in 2011) indicate that the methodology is appropriate and also reflects unusually high interest among the respondent population. The estimated burden for the Telephone Screening Interview is five minutes, and the estimated burden for completing the mPINC Survey is 30 minutes.

As with the initial surveys, a major goal of the 2013 and 2015 follow-up surveys is to be fully responsive to facilities' needs for information and technical assistance. CDC will provide direct feedback to respondents in a customized benchmark report of their results and identify and document progress since 2007 on their quality improvement efforts. CDC will use information from the mPINC surveys to identify, document, and share information related to incremental changes in practices and care processes over time at the hospital, state, and national levels. Data will be also used by researchers to better understand the relationships between hospital characteristics, maternity-care practices, state level factors, and breastfeeding initiation and continuation rates.

Participation in the survey is voluntary, and responses may be submitted by mail or through a Web-based system. There are no costs to respondents other than their time.

Estimated Annualized Burden Hours
Type of respondent | Form name | Number of respondents | Number of responses per respondent | Average burden per response (in hours) | Total burden (in hours)
AHA Hospitals with either > 1 birth or > 1 registered maternity bed | Telephone Screening Interview | 2,398 | 1 | 5/60 | 200
| mPINC Survey | 1,730 | 1 | 30/60 | 865
AABC Birth Centers | Telephone Screening Interview | 173 | 1 | 5/60 | 14
| mPINC Survey | 95 | 1 | 30/60 | 48
Total |  |  |  |  | 1,127

Kimberly S. Lane,
Deputy Director, Office of Scientific Integrity, Office of the Associate Director for Science, Office of the Director, Centers for Disease Control and Prevention.

[FR Doc. 2013-03194 Filed 2-11-13; 8:45 am]

BILLING CODE 4163-18-P